LEGAL SERVICES CORPORATION

Notice of Instructions for Emergency Relief Grants

AGENCY: Legal Services Corporation

ACTION: Notice—Instructions for emergency relief grants.

SUMMARY: Generally, the Legal Services Corporation (LSC) has funds available to help meet the special needs of LSC grantees in areas experiencing emergencies recognized through government declarations. This Notice sets forth instructions for current LSC grantees with such needs affecting their offices or parts of their service area who wish to apply for emergency relief funding when such funds are available. This information is also posted to the LSC Web site at www.lsc.gov.

DATES: These instructions are effective September 19, 2016.

FOR FURTHER INFORMATION CONTACT: Disaster Grants Coordinator, Office of Program Performance, Legal Services Corporation, 3333 K St. NW., Washington, DC 20007, (202) 295-1500, emergencygrants@lsc.gov (preferred contact).

SUPPLEMENTARY INFORMATION:

Emergency Relief Grants

A. Eligibility

Generally, the Legal Services Corporation (LSC) has funds available to help meet the special needs of LSC grantees in areas experiencing emergencies recognized through government declarations. When funding is available, current LSC grantees are eligible to apply for such emergency funds only if they provide services or have an office located in an area subject to an emergency declaration or similar determination by a government entity or equivalent, at any level, including tribal governments regardless of federal recognition. Such determinations could address disasters, public health emergencies, droughts, or other circumstances warranting emergency-response actions and services. This policy supersedes LSC's prior policy that limited these grants to Federally declared disaster areas. Information regarding this grant program is available at www.lsc.gov in the “Our Grant Programs” section.

B. Applications

Interested grantees should contact the LSC Office of Program Performance to discuss the application process, standards, and selection criteria. Information about the application forms and method of submission are available on www.lsc.gov in the “Our Grant Programs” section. Applications should, at minimum, address the following topics.

1. Resources, Needs, and Objectives

a. A description of the damage sustained by applicant and/or the surge in demand for services as a result of the emergency.

b. An estimate, in dollars, of lost property, including records, and equipment.

c. The amount of emergency funds requested.

d. A brief narrative stating the purpose of the requested funds.

e. The grantee's current annual budget of revenue and expenses including both LSC funds and non-LSC funds.

2. Operational Procedures

a. The anticipated length of time needed to restore operations from emergency status to normal and/or the anticipated length of time of the expected surge in demand.

b. The anticipated term of the emergency grant (i.e., proposed beginning and termination dates).

c. A description of the project, including criteria to be used for determining successful completion.

3. Budget—A Detailed Budget of Expenses for the Emergency Relief Grant

C. Approval Criteria

Given the nature of these emergency situations, LSC will process requests for assistance on a priority basis. The primary emphasis will be on restoring or expanding, as quickly as possible, the program's capacity to serve eligible clients.

D. Accounting and Reporting

1. Accounting for the Grant

The grant must be separately reported by natural line item in the grantee's annual audit(s). This reporting may be done either on the face of the financial statements, or in a schedule attached to the financial statements. The grant will provide additional instructions as needed.

2. Case Service Reporting

In times of crisis, the immediate needs of victims supersede the need to adhere to the grantee's established priorities. Thus, grantees confronted by natural disasters or emergencies generally dispense with the stated priorities to respond to the most pressing needs of their clients. Depending on the extent of the disaster and the impact it has on case activities, the grantee may process a substantial number of cases outside of its normal priorities, which could significantly alter its case service reporting data. To avoid a distorted picture when disaster cases are reported in the regular CSRs, LSC may require separate case reporting for emergency-related cases that are outside of normal priorities and/or funded with an emergency relief grant.

Dated: August 15, 2016.
Mark Freedman,
Senior Associate General Counsel.

[FR Doc. 2016-19801 Filed 8-18-16; 8:45 am]

BILLING CODE 7050-01-P